DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before January 3, 2017. Address written comments to Statutory Import Programs Staff, Room 3720, U.S. Department of Commerce, Washington, DC 20230. Applications may be examined between 8:30 a.m. and 5:00 p.m. at the U.S. Department of Commerce in Room 3720.

Docket Number: 16-017. Applicant: California Institute of Technology, 1200 E. California Blvd., Pasadena, CA 91125. Instrument: Photonic Professional GT 3D laser Lithography System. Manufacturer: Nanoscribe GmbH, Germany. Intended Use: The instrument will be used to develop structural meta-materials that are mechanically robust and multi-functional. The instrument allows the fabrication of 3-dimensional architectures out of polymer, with dimensions on the order of nanometers. There is no other instrument capable of resolving features down to that size because to attain such resolution it is necessary to have the two-photon laser capability. Justification for Duty-Free Entry: There are no instruments of the same general category manufactured in the United States. Application accepted by Commissioner of Customs: October 28, 2016.

Docket Number: 16-018. Applicant: UChicago Argonne, 9700 S. Cass Avenue, Lemont, IL 60439. Instrument: Electron Microscope. Manufacturer: FEI Company, Czech Republic. Intended Use: The instrument will be used for research including studies of the morphology, grain structure and defect structure in modern structural materials. Justification for Duty-Free Entry: There are no instruments of the same general category manufactured in the United States. Application accepted by Commissioner of Customs: October 31, 2016.

Docket Number: 16-019. Applicant: University of Nebraska—Lincoln, 1700 Y St., Lincoln, NE 68588. Instrument: Electron Microscope. Manufacturer: Elmitec, Germany. Intended Use: The instrument will be used to research the synthesis and properties of novel nanomaterials, using the interaction of an electron beam with the surface of materials to image the surface with very high (nanometer scale) resolution, independent of temperature (in the range from ~−100 C to well over 1000 C) and in the presence of different gases and vapors. Justification for Duty-Free Entry: There are no instruments of the same general category manufactured in the United States. Application accepted by Commissioner of Customs: November 4, 2016.

Docket Number: 16-020. Applicant: Lafayette College, 730 High Street, Easton, PA 18042. Instrument: High Power Q-Switched Diode-Pumped Solid State Laser. Manufacturer: EdgeWave GMBH, Germany. Intended Use: The instrument will be used to study time-dependent finite chemical rate and mixing effects in turbulent combustion and the investigation of coherent structures in turbulent boundary layers. The instrument is approximately 10 times more powerful than any other high-repetition diode-pumped solid state available from a U.S. manufacturer. Techniques to be performed include Planar Laser Induced Fluorescence imaging, exploiting the high-repetition rate and tenability features of the instrument. Justification for Duty-Free Entry: There are no instruments of the same general category manufactured in the United States. Application accepted by Commissioner of Customs: November 4, 2016.

Docket Number: 16-022. Applicant: Regents of the University of Colorado, 1800 Grant St., Denver, CO 80203. Instrument: Electron Microscope. Manufacturer: FEI Company, Brno Czech Republic. Intended Use: The instrument will be used to research the structural basis for macromolecular function in both healthy and diseased cells. Justification for Duty-Free Entry: There are no instruments of the same general category manufactured in the United States. Application accepted by Commissioner of Customs: November 4, 2016.

Dated: December 5, 2016.
Gregory W. Campbell,
Director of Subsidies Enforcement, Enforcement and Compliance.

[FR Doc. 2016-29614 Filed 12-9-16; 8:45 am]

BILLING CODE 3510-DS-P